DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 84 FR 35676—35679, July 24, 2019) is amended to reorganize the Centers for Disease Control and Prevention offices that support the Deputy Director for Public Health Science and Surveillance. Functions of the Division of Public Health Information and Dissemination, a component within the Center for Surveillance, Epidemiology and Laboratory Services (CSELS), align more closely with the mission of the Office of the Associate Director for Policy and Strategy, CSELS' Office of the Director, and the Office of Science. The mission and functional statement for Office of Laboratory Science and Safety is also being revised.

Section C-B, Organization and Functions, is hereby amended as follows:

After the functional statement for the Population Health and Healthcare Office (CAQE), Office of the Associate Director for Policy and Strategy (CAQ), insert the following:

Community Guide Office (CAQG). (1) Convenes and provides ongoing administrative, research, and technical support for the operations of the independent Community Preventive Services Task Force as directed by statutory mandate; (2) conducts and oversees production of the systematic reviews that serve as the scientific basis for Task Force findings and recommendations; (3) coordinates and manages large and diverse teams of internal and external partners participating in the systematic review process; (4) participates with other CDC programs and other federal and non-governmental partners in developing and refining methods for conducting systematic reviews; (5) assists CDC and other federal and non-federal partners in understanding, using, and communicating methods for conducting systematic reviews; (6) assists CDC and other federal and non-federal partners in linking reviews of evidence to guidelines development and program implementation; (7) assists the Task Force in producing reports on evidence gaps and priority areas for further examination; (8) establishes, updates, and evaluates the utility and use of the Community Guide website (www.thecommunityguide.org) by intended users; (9) convenes and participates with other CDC programs and other federal and non-governmental partners in: (a) Disseminating products and promotional materials throughout the U.S. health care and public health systems and to their multisectoral partners via a variety of media, such as journals, books, documents, the World Wide Web, and other media, (b) developing and testing policies and processes for referencing Task Force findings in research and programmatic funding announcements to increase use of Task Force findings and fill evidence gaps, and (c) developing, refining, and evaluating methods for assisting users in implementing Task Force recommendations; (10) convenes and participates with other CDC programs and other federal and non-governmental partners in establishing methods for evaluating implementation, use, and impact of Task Force-recommended strategies; (11) participates in the development of national and regional public and private partnerships to enhance prevention research and the translation of evidence into policy and action; (12) provides epidemiologic and scientific support for health departments, nonprofit hospitals and other community-based organizations engaged in community health improvement; (13) maintains scientific expertise in cross-cutting measures of population health and population health determinants; (14) develops stakeholder-driven epidemiological resources including analytic tools and scientific resources for identifying community health priorities and health disparities, and monitoring and evaluating public health impact; (15) hosts and periodically updates the Community Health Status Indicators web application; and (16) participates with CDC and other federal and non-federal partners to encourage multi-sector collaborations that support shared ownership of community health improvement.

Delete in its entirety the functional statement for the Office of the Director (CPN1), Center for Surveillance, Epidemiology and Laboratory Services (CPN) and insert the following:

Office of the Director (CPN1). (1) Provides strategic direction regarding surveillance, epidemiologic investigation, and data and information sciences; (2) supports DDPHSS's CDC-wide coordination and strategic activities in areas of health informatics technology, including the meaningful use of electronic health records for public health surveillance and the coordination of partners and stakeholders for biosurveillance, and publication science; (3) leads the development of public health workforce training; (4) guides the development of laboratory systems standards for quality and safety, including the Clinical Laboratory Improvement Amendments (CLIA) and engagement with relevant federal advisory committees; (5) manages, directs, coordinates, and evaluates the activities of the center; (6) defines goals and objectives for policy formation, scientific oversight, and guidance in program planning and development; (7) establishes and implements a communications strategy in support of the CSELS overarching goals and priorities; (8) provides oversight for the evaluation of programmatic performance of all CSELS activities to ensure health impact; (9) plans, coordinates, and manages all aspects of program business services including human and fiscal resources, extramural activities, space, and all administrative services; (10) devises information technology practices and procedures, and provides direction, innovation, planning and evaluation for information technology systems, services, security, and resources for CSELS; (11) provides leadership on issues management, budget formulation and performance integration; (12) manages inter-governmental and external affairs and cultivates strategic partnerships; (13) ensures scientific quality, integrity, and clearance across the center; (14) provides guidance and strategic oversight to the processes within the center that access, collect, manage, analyze, and visualize data, including assistance for involvement with federal advisory committees and other high level groups; (15) monitors projects for effective focus on the analytical, informatics, data management, and statistical infrastructure to deliver quality data, accurate analysis services and dependable software products and systems to customers and partners; (16) collaborates and consults with other centers, working groups, state and local health departments, other federal agencies, and other partners, to accomplish the mission of the center; (17) reviews, prepares, coordinates, and develops Congressional testimony and briefing materials; (18) represents CSELS and at times CDC at professional and scientific meetings, within and outside CDC; (19) manages the Morbidity and Mortality Weekly Report (MMWR) series of publications, including the MMWR Recommendations and Reports, CDC Surveillance Summaries, and Annual Summary of Notifiable Diseases, and supports Public Health Reports among other publications; (20) develops, plans, coordinates, edits, and produces the MMWR series, including the MMWR Recommendations and Reports, CDC Surveillance Summaries, and Annual Summary of Notifiable Diseases; (21) manages the CDC Vital Signs program, which offers recent data and calls to action for important public health issues; (22) produces CDC Vital Signs which includes an MMWR Early Release, a fact sheet and website, a media release, and a series of announcements via social media tools; and (23) leads an agency-wide call to action each month concerning a single, important public health topic.

Delete in its entirety the functional statement for the Division of Public Health Information and Dissemination (CPNC).

After the functional statement for the Office of Technology and Innovation (CPPD), Office of Science (CPP). insert the following:

Office of Genomics and Precision Public Health (CPPE). The Office of Genomics and Precision Public Health (OGPPH) is charged with identifying opportunities for genomics and precision public health applications to improve health, prevent disease, save health care costs and reduce health disparities in the United States. (1) OGPPH integrates advances in pathogen and human genomics, machine learning, data science and predictive analytics responsibly and effectively into health care and public health programs; (2) provides technical assistance and advice to CDC leadership and programs, other federal agencies, state health departments, and other external partners by identifying, evaluating, and implementing evidence-based genomics and precision public health practices to prevent and control the country's leading diseases; (3) supports policy, education, and surveillance frameworks to promote effective implementation of evidence-based recommendations for genomic tests, family health history, and precision health applications, as well as those applications that will emerge in the next decade and beyond; (4) identifies and evaluates emerging genomic, family health history, and precision health applications with the potential to impact population health; and (5) conducts public health genomics and precision public health epidemiologic studies and analyses.

Office of Library Science (CPPG). The Stephen B. Thacker CDC Library supports CDC's scientific and public health information needs by serving as CDC's resource for library collections, information resources, customized library services and tools, information exchange, learning, collaboration and innovation. To accomplish these aims, the Office of Library Science: (1) Develops, curates, sustains and evaluates library collections and public health information resources; (2) provides CDC staff with timely access to electronic and hardcopy scientific and public health programmatic resources; (3) provides library science technical assistance, reference services, literature searches, systematic reviews, and training; (4) provides resources to evaluate scholarly and other impact of CDC research and publications; (5) provides and manages facilities for scientific inquiry, learning, research, collaboration, and innovation; (6) supports the Library Advisory Board, whose members ensure their CIO's needs are considered in library operations and planning; and (7) collaborates with other federal libraries, medical/health sciences libraries, other library and information scientists, and public health partners.

Delete in its entirety the functional statement for the Office of Laboratory Science and Safety (CPQ), and insert the following:

Office of Laboratory Science and Safety (CPQ). In carrying out its mission, the Office of Laboratory Science and Safety: (1) Provides scientific, technical, and managerial expertise and leadership in the development and enhancement of laboratory safety programs; and (2) oversees and monitors the development, implementation, and evaluation of the laboratory safety and quality management programs across CDC.

Office of the Director (CPQ1). (1) Provides scientific, technical, and managerial expertise and leadership in the development and enhancement of laboratory science and safety programs; (2) oversees and monitors the development, implementation, and evaluation of the laboratory safety and quality management programs across CDC; (3) advises on policy, partnerships, and issues management matters; (4) advises on matters related to internal and external public health communications; (5) provides oversight to ensure CDC compliance with regulations for select agents and toxins, and the safe possession, use, and transfer of select agents and toxins; (6) provides oversight to ensure CDC compliance with all applicable laws, regulations, policies, and standards regarding the humane care and use of laboratory animals at CDC; (7) serves as the Institutional Official for purposes of compliance with the Public Health Service Policy on Humane Care and Use of Laboratory Animals; (8) makes appointments to the CDC Institutional Animal Care and Use Committees; and (9) leads responses to laboratory incidents and emergencies.

Office of Laboratory Science (CPQB). (1) Provides high-level coordination of policies and guidance for core laboratory training programs in quality management, laboratory safety, and Food and Drug Administration (FDA)-regulated diagnostic devices; (2) manages the catalog of core laboratory quality, safety, and FDA-regulatory compliance training courses; (3) provides expertise and consultation for policy development and implementation of laboratory quality management activities; (4) provides regulatory expertise and consultation to support policy development and compliance with FDA regulations for in vitro diagnostic devices.

Office of Laboratory Safety (CPQC). (1) Provides high-level oversight and coordination of laboratory safety at all CDC campuses; (2) develops and assesses effectiveness of agency-level plans, policies, manuals, and tools for implementation of laboratory safety standards; (3) provides regulatory compliance for biological safety, chemical safety, radiation safety, and the possession, use, and transport of select agents and toxins; (4) provides expertise and consultation for biological safety, chemical safety, and radiation safety; and (5) provides expertise for CDC-wide compliance with all applicable laws, regulations, policies, and standards regarding the humane care and use of laboratory animals at CDC.

Sherri A. Berger,
Chief Operating Officer, Centers for Disease Control and Prevention.

[FR Doc. 2019-18469 Filed 8-27-19; 8:45 am]

BILLING CODE 4163-18-P